ENVIRONMENTAL PROTECTION AGENCY

[FRL-6981-2]

Notice of Approval of Prevention of Significant Deterioration (PSD) Permit to Midway Sunset Cogeneration Company (Permit No. SJ-00-01)

AGENCY: Environmental Protection Agency (EPA).

ACTION: Notice.

SUMMARY: EPA Region 9 is hereby providing notice that it issued PSD permit to Midway Sunset Cogeneration Company.

The permit (Authority to Construct) was issued on April 20, 2001. Since no comments were received during the public comment period and the proposed permit conditions were not changed in the final permit, the final permit became effective immediately. The proposed Western Midway Sunset Cogeneration Project (WMSCP) will be located adjacent to an existing 225 MW Midway Sunset Cogeneration Plant (MSCP) in western Kern County near the communities of Fellows and McKittrick in California. The proposed WMSCP is a natural gas-fired combined cycle power plant, with a nominal electrical output of 500 MW. The proposed facility is subject to PSD for Carbon Monoxide (CO). The permit includes the Best Available Control Technology (BACT) emission limit of 4 ppmvd (three-hour averaging at 15% O2). Continuous emission monitoring is required for NOX, CO and O2. To limit SOX emissions, the fuel type is limited to the use of pipeline-quality natural gas. The proposed plant is also subject to New Source Performance Standards, Subparts A and GG, and the Acid Rain program under title IV of the Clean Air Act.

Concurrently, on April 20, 2001, we issued a revised PSD permit for the existing power plant (Permit No. SJ-87-01) to allow it to retrofit its three existing turbines with low NOX burners.

FOR FURTHER INFORMATION CONTACT: If you have any questions or would like a copy of the permits, please contact Nahid Zoueshtiagh at (415) 744-1261. You may also contact us by mail at: Permits Office (Air-3), U.S. Environmental Protection Agency, Region 9, 75 Hawthorne Street, San Francisco, CA 94105.

Judicial Review: No comments were received on the proposed permits and no appeals were filed concerning these permits before the Environmental Appeals Board pursuant to 40 CFR 124.19.

40 CFR 124.19(f)(2) requires notice of any final agency action regarding a PSD permit to be published in the Federal Register. Section 307(b)(1) of the Clean Air Act provides for review of final agency action that is locally or regionally applicable in the United States Court of Appeals for the appropriate circuit. Such a petition for review of final agency action must be filed within 60 days from the date of notice of such action in the Federal Register. (However, 40 CFR 124.19(f)(1) provides that, for purposes of judicial review under the Clean Air Act, final agency action occurs when a final PSD permit is issued or denied by EPA and agency review procedures are exhausted.)

Dated: May 8, 2001.
Jack P. Broadbent,
Director, Air Division, Region IX.

[FR Doc. 01-12358 Filed 5-15-01; 8:45 am]

BILLING CODE 6560-50-P